DEPARTMENT OF COMMERCE

International Trade Administration

[A-588-804, A-412-801]

Ball Bearings and Parts Thereof From Japan and the United Kingdom: Revocation of Antidumping Duty Orders

AGENCY: Department of Commerce, Import Administration, International Trade Administration.

SUMMARY: The Department of Commerce (the Department) is revoking the antidumping duty orders on ball bearings and parts thereof from Japan and the United Kingdom.

DATES: Effective Date: July 16, 2011.

FOR FURTHER INFORMATION CONTACT: Sandra Stewart or Richard Rimlinger, AD/CVD Operations, Office 5, Import Administration, International Trade Administration, U.S. Department of Commerce, 14th Street and Constitution Avenue, NW., Washington, DC 20230; telephone: (202) 482-0768 or (202) 482-4477, respectively.

SUPPLEMENTARY INFORMATION:

Background

On May 15, 1989, the Department published the antidumping duty orders on ball bearings and parts thereof from Japan and the United Kingdom (collectively, the orders) in the Federal Register. See Antidumping Duty Orders: Ball Bearings, Cylindrical Roller Bearings, and Spherical Plain Bearings, and Parts Thereof From Japan, 54 FR 20904 (May 15, 1989), and Antidumping Duty Orders and Amendments to the Final Determinations of Sales at Less Than Fair Value: Ball Bearings, and Cylindrical Roller Bearings and Parts Thereof From the United Kingdom, 54 FR 20910 (May 15, 1989). Pursuant to section 751(c) of the Tariff Act of 1930, as amended (the Act), the Department initiated and the U.S. International Trade Commission (ITC) instituted the second sunset reviews of the orders on June 1, 2005. See Initiation of Five-year (“Sunset”) Reviews, 70 FR 31423 (June 1, 2005); Certain Bearings From China, France, Germany, Italy, Japan, Singapore, and the United Kingdom, 70 FR 31531 (June 1, 2005); see also 19 CFR 351.218. As a result of its reviews, the Department found that revocation of the antidumping duty orders would be likely to lead to the continuation or recurrence of dumping and notified the ITC of the magnitude of the margins likely to prevail were the orders to be revoked. See Antifriction Bearings and Parts Thereof from France, Germany, Italy, and the United Kingdom; Five-Year Sunset Reviews of Antidumping Duty Orders; Final Results, 70 FR 58183 (October 5, 2005), Ball Bearings and Parts Thereof from Japan and Singapore; Five-year Sunset Reviews of Antidumping Duty Orders; Final Results, 71 FR 26321 (May 4, 2006), and Ball Bearings and Parts Thereof from Japan; Five-year Sunset Review of Antidumping Duty Order: Amended Final Results, 71 FR 30378 (May 26, 2006).

On August 31, 2006, the ITC published its determination that, pursuant to section 751(c) of the Act, revocation of the antidumping duty orders on ball bearings and parts thereof from Japan and the United Kingdom, among others, would be likely to lead to the continuation or recurrence of material injury to an industry in the United States within a reasonably foreseeable time. See Certain Bearings From China, France, Germany, Italy, Japan, Singapore, and the United Kingdom, 71 FR 51850 (August 31, 2006), and ITC Publication 3876 (August 2006) entitled Certain Bearings from China, France, Germany, Italy, Japan, Singapore, and the United Kingdom, Investigation Nos. 731-TA-344, 391-A, 392-A and C, 393-A, 394-A, 396, and 399-A (Second Review). NSK Corporation, NSK Ltd., and NSK Europe Ltd. and JTEKT Corporation and Koyo Corporation of U.S.A. appealed to the Court of International Trade (CIT), challenging the ITC determinations on certain ball bearings and parts thereof from Japan and the United Kingdom.

In its third and fourth remand determinations,¹ the ITC found that revocation of the orders would not be likely to lead to the continuation or recurrence of material injury to an industry in the United States within a reasonably foreseeable time. On April 20, 2011, the CIT affirmed the ITC's fourth remand and entered judgment in the case. See NSK v. United States, Court No. 06-334, Slip Op. 11-43 (CIT April 20, 2011) (NSK). The CIT stayed the effect of its judgment temporarily but lifted the stay on May 13, 2011. On May 17, 2011, the Court of Appeals for the Federal Circuit issued a temporary stay of the judgment in NSK Corp. v. United States, Court Nos. 2011-1362, -1382, -1383 (Fed. Cir. May 17, 2011).

¹ See ITC Publication 4194, Ball Bearings and Parts thereof from Japan and the United Kingdom, Investigation Nos. 731-TA-394A and 399A (Second Review) (Third Remand) (August 2010), and ITC Publication 4223, Certain Ball Bearings and Parts Thereof from Japan and the United Kingdom, Investigation Nos. 394-A and 399-A (Second Review) (Fourth Remand) (March 2011).

On June 17, 2011, in response to the CIT's entry of judgment in NSK, the Department published notice of a court decision not in harmony with a Department determination, thereby suspending liquidation of all entries of subject merchandise entered, or withdrawn from warehouse, for consumption on or after July 11, 2005, that remain unliquidated, and not deemed liquidated, as of April 30, 2011. See Ball Bearings and Parts Thereof From Japan and the United Kingdom: Notice of Court Decision Not in Harmony with Continuation of Antidumping Duty Orders, 76 FR 35401 (June 17, 2011) (Timken Notice).

On July 6, 2011, the Federal Circuit's stay lifted. See NSK v. United States, Nos. 2011-1362, -1382, -1383, -1454 (Fed. Cir. July 6, 2011). Therefore, pursuant to the CIT's judgment in NSK, the Department is revoking the antidumping duty orders on ball bearings and parts thereof from Japan and the United Kingdom.

Scope of the Orders

The products covered by the orders are ball bearings and parts thereof. These products include all antifriction bearings that employ balls as the rolling element. Imports of these products are classified under the following categories: Antifriction balls, ball bearings with integral shafts, ball bearings (including radial ball bearings) and parts thereof, and housed or mounted ball bearing units and parts thereof.

Imports of these products are classified under the following Harmonized Tariff Schedule of the United States (HTSUS) subheadings: 3926.90.45, 4016.93.10, 4016.93.50, 6909.19.50.10, 8414.90.41.75, 8431.20.00, 8431.39.00.10, 8482.10.10, 8482.10.50, 8482.80.00, 8482.91.00, 8482.99.05, 8482.99.35, 8482.99.25.80, 8482.99.65.95, 8483.20.40, 8483.20.80, 8483.30.40, 8483.30.80, 8483.50.90, 8483.90.20, 8483.90.30, 8483.90.70, 8708.50.50, 8708.60.50, 8708.60.80, 8708.93.30, 8708.93.60.00, 8708.99.06, 8708.99.31.00, 8708.99.40.00, 8708.99.49.60, 8708.99.58, 8708.99.80.15, 8708.99.80.80, 8803.10.00, 8803.20.00, 8803.30.00, 8803.90.30, 8803.90.90, 8708.30.50.90, 8708.40.75.70, 8708.40.75.80, 8708.50.79.00, 8708.50.89.00, 8708.50.91.50, 8708.50.99.00, 8708.70.60.60, 8708.80.65.90, 8708.93.75.00, 8708.94.75, 8708.95.20.00, 8708.99.55.00, 8708.99.68, and 8708.99.81.80.

Although the HTSUS item numbers above are provided for convenience and customs purposes, the written descriptions of the scope of the orders remain dispositive.

The size or precision grade of a bearing does not influence whether the bearing is covered by one of the orders. The orders cover all the subject bearings and parts thereof (inner race, outer race, cage, rollers, balls, seals, shields, etc.) outlined above with certain limitations. With regard to finished parts, all such parts are included in the scope of the orders. For unfinished parts, such parts are included if they have been heat-treated or if heat treatment is not required to be performed on the part. Thus, the only unfinished parts that are not covered by the orders are those that will be subject to heat treatment after importation. The ultimate application of a bearing also does not influence whether the bearing is covered by the orders. Bearings designed for highly specialized applications are not excluded. Any of the subject bearings, regardless of whether they may ultimately be utilized in aircraft, automobiles, or other equipment, are within the scope of the orders.

Revocation

Pursuant to the Federal Circuit's decision in Diamond Sawblades ² and the CIT's decision in NSK affirming the ITC's determinations that the revocation of the orders is not likely to lead to the continuation or recurrence of material injury within a reasonably foreseeable time, the Department is revoking the antidumping duty orders on ball bearings and parts thereof from Japan and the United Kingdom pursuant to section 751(d) of the Act. As a result of this revocation, the Department is discontinuing all unfinished administrative reviews immediately and will not initiate any new administrative reviews of the orders.

² See Diamond Sawblades Manufacturers Coalition v. United States, 626 F.3d 1374 (Fed. Cir. 2010) (Diamond Sawblades).

Furthermore, the Department will instruct U.S. Customs and Border Protection to discontinue the collection of cash deposits for estimated antidumping duties, effective July 16, 2011, which is 10 days after the Federal Circuit lifted the temporary stay.

As explained in the Timken Notice and pursuant to Timken,³ Hosiden,⁴ and Diamond Sawblades, the suspension of liquidation on all entries of ball bearings and parts thereof from Japan and the United Kingdom entered, or withdrawn from warehouse, for consumption on or after July 11, 2005, that remained unliquidated and not deemed liquidated as of April 30, 2011, will continue until there is a “final and conclusive” court decision.

³ See Timken Co. v. United States, 893 F.2d 337 (Fed. Cir. 1990) (Timken).

⁴ See Hosiden Corp. v. United States, 861 F. Supp. 115 (Fed. Cir. 1994) (Hosiden).

This notice also serves as the only reminder to parties subject to administrative protective order (APO) of their responsibility concerning destruction or conversion to judicial protective order of proprietary information disclosed under APO in accordance with 19 CFR 351.305(a)(3). Failure to comply is a violation of the APO which may be subject to sanctions.

These revocations pursuant to five-year (sunset) reviews are in accordance with sections 751(c) and 751(d)(2) of the Act and this notice is published pursuant to section 777(i)(1) of the Act.

Dated: July 11, 2011.
Ronald K. Lorentzen,
Deputy Assistant Secretary for Import Administration.

[FR Doc. 2011-17899 Filed 7-14-11; 8:45 am]

BILLING CODE 3510-DS-P